NATIONAL CREDIT UNION ADMINISTRATION

Sunshine Act Meeting

TIME AND DATE: 10 a.m., Thursday, October 21, 2010.

PLACE: Board Room, 7th Floor, Room 7047, 1775 Duke Street, Alexandria, VA 22314-3428.

STATUS: Open.

MATTERS TO BE CONSIDERED:

1. NCUA Strategic Plan 2011-2016.

2. Final Rule—Parts 701 and 742 of NCUA's Rules and Regulations, Fixed Assets and Regulatory Flexibility Program.

3. Briefing—Merger Partner Registry.

4. Insurance Fund Report.

RECESS: 11 a.m.

TIME AND DATE: 11:15 a.m., Thursday, October 21, 2010.

PLACE: Board Room, 7th Floor, Room 7047, 1775 Duke Street, Alexandria, VA 22314-3428.

STATUS: Closed.

MATTERS TO BE CONSIDERED:

1. Insurance Appeals (2). Closed pursuant to some or all of the following: Exemptions (4) and (6).

2. Consideration of Supervisory Activities (5). Closed pursuant to some or all of the following: Exemptions (8), (9)(A)(ii) and 9(B).

FOR FURTHER INFORMATION CONTACT: Mary Rupp, Secretary of the Board, Telephone: 703-518-6304.

Mary Rupp,
Board Secretary.

[FR Doc. 2010-26289 Filed 10-14-10; 4:15 pm]

BILLING CODE P